DEPARTMENT OF ENERGY

Federal Energy Regulatory Commission

[Project No. 13127-000]

Mississippi 24 Hydro, LLC; Notice of Preliminary Permit Application Accepted for Filing and Soliciting Comment, Motions To Intervene, and Competing Applications

September 30, 2008.

Mississippi 24 Hydro, LLC filed an application on March 3, 2008, pursuant to section 4(f) of the Federal Power Act, proposing to study the feasibility of the Mississippi River Lock and Dam No. 24 Hydroelectric Project, which would be located near the town of Clarksville on the Mississippi River at the existing U.S. Army Corps of Engineers' Lock and Dam No. 24 and Reservoir in Calhoun County, Illinois and Pike County, Missouri. The proposed project would utilize federal lands.

The proposed Mississippi River Lock and Dam No. 24 Hydroelectric Project would utilize the U.S. Army Corps of Engineers' Lock and Dam No. 24 and would consist of the following new facilities: (1) An intake structure, (2) a powerhouse containing 3 generating units with a total installed capacity of 22.3 MW, (3) a 5-mile-long, 46 kV underground transmission line, connecting to an existing power line, and (4) appurtenant facilities. The project would have an annual generation of 241 gigawatts-hours, which would be sold to a local utility.

Applicant Contact: Mr. Brent Smith, Mississippi 24 Hydro, LLC, 975 South State Highway, Logan, UT 84321; phone: (435) 752-2580.

FERC Contact: Tom Papsidero, (202) 502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13127) in the docket number field to access the document. For assistance, call toll-free 1-866-208-3372.

Nathaniel J. Davis, Sr.,
Deputy Secretary.

[FR Doc. E8-23503 Filed 10-3-08; 8:45 am]

BILLING CODE 6717-01-P